DEPARTMENT OF ENERGY

Federal Energy Regulatory Commission

Notice of Request for Amendment of License Article 415 and Soliciting Comments, Motions To Intervene, and Protests

December 20, 2000.

Take notice that the following application has been filed with the Commission and is available for public inspection:

a. Application Type: Request for amendment of license article 415 concerning recreational whitewater release flows.

b. Project No.: 2899-096.

c. Date filed: September 22, 2000.

d. Licensee: Idaho Power Company and Milner Dam, Inc.

e. Name of Project: Milner Project

f. Location: On the Snake River in Twin Falls and Cassia Counties, Idaho. The project site does not involve federal or tribal lands.

g. Filed Pursuant to: Federal Power Act, 16 USC 791(a)-825(r).

h. Applicant Contact: Mr. Lewis Wardle, Idaho Power Company, P.O. Box 70, Boise, Idaho 83707. (208) 388-2964.

i. FERC Contact: Any questions on this notice should be addressed to Jean Potvin, jean.potvin@ferc.fed.us, (202) 219-0022.

j. Deadline for filing comments and or motions: January 26, 2001.

All documents (original and eight copies) should be filed with Mr. David P. Boergers, Secretary, Federal Energy Regulatory Commission, 888 First Street, NE., Washington, DC 20426. Comments and protests may be filed electronically via the internet in lieu of paper. Sec, 18 CFR 385.2001(a)(1)(iii) and the instructions on the Commission's web site at http://www.ferc.fed.us/efi/doorbell, htm. Please reference the following number, P-2899-096, on any comments or motions filed.

k. Description of Proposal: The licensee proposes to amend article 415 of the project license by: (1) Reducing the number of weekend days they provide whitewater flow releases from twelve to four; (2) condition whitewater releases upon receiving a whitewater release request by two or more boaters by 3 p.m. on Friday before the weekend and after at least two boaters have checked in at the main powerhouse on the day of the whitewater release; and (3) require the licensee to file a report with the Commission by October 1 every other year beginning in 2001 that lists by month for April through June: the number of release requests received; the dates, times and duration of the releases; the amount of flow provided through the bypass reach for each release; and the total number of boaters using the bypass reach for each day whitewater releases were made.

l. Locations of the application: A copy of the application is available for inspection and reproduction at the commission's Public Reference Room, at 888 First Street, NE., Room 2A Washington, DC 20426, or by calling 202-208-1371. The application may be viewed on-line at http:///www.ferc.fed.us/online/rims.htm (call 202-208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-32899 Filed 12-26-00; 8:45 am]

BILLING CODE 6717-01-M